DEPARTMENT OF COMMERCE

International Trade Administration

[A-533-840]

Certain Frozen Warmwater Shrimp From India: Rescission of Antidumping Duty Administrative Review; 2017-2018

AGENCY: Enforcement and Compliance, International Trade Administration, Department of Commerce.

SUMMARY: On April 16, 2018, the Department of Commerce (Commerce) initiated an administrative review on frozen warmwater shrimp from India for the period February 1, 2017, through January 31, 2018, for 241 companies. Because all interested parties timely withdrew their requests for administrative review for certain companies, we are rescinding this administrative review with respect to those companies, pursuant to 19 CFR 351.213(d)(1). For a list of the companies for which we are rescinding this review, see the Appendix to this notice.

DATES: Applicable March 22, 2019.

FOR FURTHER INFORMATION CONTACT: Manuel Rey or Brittany Bauer, AD/CVD Operations, Office II, Enforcement and Compliance, International Trade Administration, U.S. Department of Commerce, 1401 Constitution Avenue NW, Washington, DC 20230; telephone: (202) 482-5518 or (202) 482-3860.

SUPPLEMENTARY INFORMATION:

Background

On February 1, 2018, Commerce published in the Federal Register a notice of opportunity to request an administrative review of the antidumping duty order on frozen warmwater shrimp from India for the period February 1, 2017, through January 31, 2018.¹ In February 2018, Commerce received timely requests, in accordance with section 751(a) of the Tariff Act of 1930, as amended (the Act), to conduct an administrative review of this antidumping duty order from the Ad Hoc Shrimp Trade Action Committee (the petitioner), the American Shrimp Processors Association (ASPA), and certain individual companies.² Based upon these requests, on April 16, 2018, in accordance with section 751(a) of the Act, Commerce published in the Federal Register a notice of initiation listing 248 companies for which Commerce received timely requests for review.³

¹ See Antidumping or Countervailing Duty Order, Finding, or Suspended Investigation; Opportunity to Request Administrative Review, 83 FR 4639 (February 1, 2018).

² See Petitioner's Letter, “Certain Frozen Warmwater Shrimp from India: Request for Administrative Reviews,” dated February 27, 2018; ASPA's Letter, “Administrative Review of the Antidumping Duty Order Covering Frozen Warmwater Shrimp from India (POR 13: 02/01/17-01/31/18): American Shrimp Processors Association's Request for an Administrative Review,” dated February 27, 2018; Crystal Sea Foods's Letter, “Frozen Warmwater Shrimp from India—Request for Administrative Review of Crystal Sea Foods Private Limited,” dated February 25, 2018; West Coast Frozen Foods Letter, “Frozen Warmwater Shrimp from India—Request for Administrative Review of West Coast Frozen Foods Private Limited,” dated February 26, 2018; Blue-Fin's Letter, “Frozen Warmwater Shrimp from India—Request for Administrative Review of Blue-Fin Frozen Foods Private Limited,” dated February 26, 2018; Devi's Letter, “Certain Frozen Warmwater Shrimp from India: Devi Fisheries Group (comprising, Devi Fisheries Limited, Satya Seafoods Private Limited, and Usha Seafoods) (“Devi”) Request for Administrative Review and Request for Voluntary Respondent Treatment (02/01/17-01/31/18),” dated February 28, 2018; Falcon's Letter, “Certain Frozen Warmwater Shrimp from India: Falcon Marine Exports Ltd./K.R. Enterprises Request for Administrative Review and Request for Voluntary Respondent Treatment (02/01/17-01/31/18),” dated February 29, 2019.

³ See Initiation of Antidumping and Countervailing Duty Administrative Reviews, 83 FR 16298 (April 16, 2018) (Initiation Notice).

In July 2018, all interested parties timely withdrew their requests for an administrative review of 234 companies.⁴ These companies are listed in the Appendix to this notice. The review continues for Blue-Fin Frozen Foods Pvt. Ltd., Calcutta Seafoods Pvt. Ltd., Crystal Sea Foods Private Limited, Forstar Frozen Foods Pvt. Ltd., Magnum Estates Limited, Magnum Sea Foods Limited, and Milsha Agro Exports Pvt. Ltd.

⁴ See Petitioner's Letters, “Certain Frozen Warmwater Shrimp from India: Domestic Producers' Partial Withdrawal of Review Requests,” dated July 12 and 16, 2018; ASPA's Letters, “Administrative Review of the Antidumping Duty Order on Frozen Warmwater Shrimp from India (02/01/2017-01/31/2018); ASPA's Partial Withdrawal of Request for Administrative Review,” dated July 12 and 16, 2018; Respondents' Letter, “Certain Frozen Warmwater Shrimp from India: Withdrawal of Requests for Administrative Review for Liberty Group, Falcon, and Devi Fisheries Group,” dated July 12, 2018; Respondents' Letter, “Certain Frozen Warmwater Shrimp from India: Withdrawal of Requests for Administrative Review for 33 Indian Producers/Exporters (02/01/17-01/31/18),” dated July 12, 2018; and West Coast Frozen's Letter, “Frozen Warmwater Shrimp from India—Withdrawal of Request for Antidumping Duty Admin Review of West Coast Frozen Foods Private Limited,” dated July 13, 2018.

Partial Rescission

Pursuant to 19 CFR 351.213(d)(1), the Secretary will rescind an administrative review, in whole or in part, if a party who requested the review withdraws the request within 90 days of the date of publication of notice of initiation of the requested review. As noted above, certain parties withdrew their requests for review by the 90-day deadline. Accordingly, we are rescinding this administrative review with respect to the companies listed in the Appendix to this notice.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a violation which is subject to sanction.

This notice is issued and published in accordance with section 751(a)(1) of the Act and 19 CFR 351.213(d)(4).

Dated: March 15, 2019.
James Maeder,
Associate Deputy Assistant Secretary for Antidumping and Countervailing Duty Operations, performing the duties of Deputy Assistant Secretary for Antidumping and Countervailing Duty Operations.

Appendix

Abad Fisheries

Akshay Food Impex Private Limited

Alashore Marine Exports (P) Ltd.

Albys Agro Private Limited

Allana Frozen Foods Pvt. Ltd.

Allanasons Ltd.

Alpha Marine

Amarsagar Seafoods Exports Private Limited

AMI Enterprises

Amulya Seafoods

Ananda Aqua Applications/Ananda Aqua Exports (P) Limited/Ananda Foods

Ananda Enterprises (India) Private Limited

Angelique Intl

Anjaneya Seafoods

Apex Frozen Foods Private Limited

Aquatica Frozen Foods Global Pvt. Ltd.

Arya Sea Foods Private Limited

Asvini Exports

Asvini Fisheries Ltd./Asvini Fisheries Private Limited

Avanti Feeds Limited/Avanti Frozen Foods Private Limited

Ayshwarya Seafood Private Limited

B-One Business House Pvt. Ltd.

B R Traders

Baby Marine Exports

Baby Marine International

Baby Marine Sarass

Baby Marine Ventures

Balasore Marine Exports Private Limited

Bay Seafoods

Bell Exim Pvt. Ltd.

Bhatsons Aquatic Products

Bhavani Seafoods

Bijaya Marine Products

Bluepark Seafoods Private Ltd.

Blue Water Foods & Exports P. Ltd.

BMR Exports

BMR Industries Private Limited

Britto Seafood Exports Pvt Ltd.

C P Aquaculture (India) Ltd.

Canaan Marine Products

Capithan Exporting Co.

Cargomar Private Limited

Castlerock Fisheries Ltd.

Chakri Fisheries Private Limited

Chemmeens (Regd)

Cherukattu Industries (Marine Div.)

Choice Trading Corporation Private Limited

Coastal Aqua

Coastal Corporation Ltd.

Cochin Frozen Food Exports Pvt. Ltd.

Continental Fisheries India Pvt. Ltd.

Coreline Exports

Corlim Marine Exports Pvt. Ltd.

D2 D Logistics Private Limited

Damco India Private Limited

Delsea Exports Pvt. Ltd.

Devi Fisheries Limited/Satya Seafoods Private Limited/Usha Seafoods/Devi Aquatech Private Limited

Devi Marine Food Exports Private Ltd./Kader Exports Private Limited/Kader Investment and Trading Company Private Limited/Liberty Frozen Foods Pvt. Ltd./Liberty Oil Mills Ltd./Premier Marine Products Private Limited/Universal Cold Storage Private Limited

Devi Sea Foods Limited

Diamond Seafoods Exports/Edhayam Frozen Foods Pvt. Ltd./Kadalkanny Frozen Foods/Theva & Company

Esmario Export Enterprises

Exporter Coreline Exports

Falcon Marine Exports Limited/K.R. Enterprises

Febin Marine Foods

Five Star Marine Exports Private Limited

Frontline Exports Pvt. Ltd.

G A Randerian Ltd.

Gadre Marine Exports

Galaxy Maritech Exports P. Ltd.

Geo Aquatic Products (P) Ltd.

Geo Seafoods

Goodwill Enterprises

Grandtrust Overseas (P) Ltd.

Green House Agro Products

Growel Processors Private Limited

GVR Exports Pvt. Ltd.

Hari Marine Private Limited

Haripriya Marine Export Pvt. Ltd.

Harmony Spices Pvt. Ltd.

HIC ABF Special Foods Pvt. Ltd.

Hindustan Lever, Ltd.

Hiravata Ice & Cold Storage

Hiravati Exports Pvt. Ltd.

Hiravati International Pvt. Ltd. (located at APM—Mafco Yard, Sector—18, Vashi, Navi, Mumbai—400 705, India).

Hiravati International Pvt. Ltd. (located at Jawar Naka, Porbandar, Gujarat, 360 575, India).

HN Indigos Private Limited

Hyson Logistics and Marine Exports Private Limited

IFB Agro Industries Ltd.

Indian Aquatic Products

Indo Aquatics

Indo Fisheries

Indo French Shellfish Company Private Limited

Innovative Foods Limited

International Freezefish Exports

Interseas

ITC Limited, International Business

ITC Ltd.

Jagadeesh Marine Exports

Jayalakshmi Sea Foods Pvt. Ltd.

Jinny Marine Traders

Jiya Packagings

K V Marine Exports

Kalyan Aqua & Marine Exp. India Pvt. Ltd.

Kanch Ghar

Karunya Marine Exports Private Limited

Kaushalya Aqua Marine Product Exports Private Limited

Kay Kay Exports

Kings Marine Products

KNC Agro Limited

Koluthara Exports Ltd.

Landauer Ltd.

Libran Cold Storages (P) Ltd.

Magnum Export

Malabar Arabian Fisheries

Malnad Exports Pvt. Ltd.

Mangala Marine Exim India Pvt. Ltd.

Mangala Seafoods

Mangala Sea Products

Marine Harvest India

Meenaxi Fisheries Pvt. Ltd.

Milesh Marine Exports Private Limited

Monsun Foods Pvt. Ltd.

MTR Foods

Munnangi Sea Foods Pvt. Limited

N.C. John & Sons (P) Ltd.

Naga Hanuman Fish Packers

Naik Frozen Foods Private Limited

Naik Oceanic Exports Private Limited

Naik Seafoods Ltd.

Neeli Aqua Private Limited

Nekkanti Sea Foods Limited

Nezami Rekha Sea Foods Private Limited

NGR Aqua International

Nila Sea Foods Exports

Nila Sea Foods Pvt. Ltd.

Nine Up Frozen Foods

Nutrient Marine Foods Ltd.

Oceanic Edibles International Limited

Paragon Sea Foods Pvt. Ltd.

Paramount Seafoods

Parayil Food Products Pvt., Ltd.

Pasupati Aquatics Private Limited

Penver Products Pvt. Ltd.

Pesca Marine Products Pvt. Ltd.

Pijikay International Exports P Ltd.

Pisces Seafood International

Pravesh Seafood Private Limited

Premier Exports International

Premier Marine Foods

Premier Seafoods Exim (P) Ltd.

R V R Marine Products Limited

Raa Systems Pvt. Ltd.

Rafiq Naik Exports Private Limited

Raju Exports

Ram's Assorted Cold Storage Ltd.

Raunaq Ice & Cold Storage

Raysons Aquatics Pvt. Ltd.

Razban Seafoods Ltd.

RBT Exports

RDR Exports

RF Exports

Riviera Exports Pvt. Ltd.

Rohi Marine Private Ltd.

Royal Marine Impex Private Limited

RSA Marines

S & S Seafoods

S. A. Exports

S Chanchala Combines

Safa Enterprises

Sagar Foods

Sagar Grandhi Exports Pvt. Ltd.

Sagar Samrat Seafoods

Sagarvihar Fisheries Pvt. Ltd.

Sai Marine Exports Pvt. Ltd.

Sai Sea Foods

Salvam Exports (P) Ltd.

Samaki Exports Prviate Limited

Sanchita Marine Products Private Limited

Sandhya Aqua Exports

Sandhya Aqua Exports Pvt. Ltd.

Sandhya Marines Limited

Santhi Fisheries & Exports Ltd.

Sarveshwari Exports

Sea Foods Private Limited

Seagold Overseas Pvt. Ltd.

Selvam Exports Private Limited

Sharat Industries Ltd.

Sharma Industries

Shimpo Exports Pvt. Ltd.

Shimpo Seafoods Private Limited

Shiva Frozen Food Exports Pvt. Ltd.

Shree Datt Aquaculture Farms Pvt. Ltd.

Shroff Processed Food & Cold Storage P Ltd.

Silver Seafood

Sita Marine Exports

Southern Tropical Foods Pvt. Ltd.

Sowmya Agri Marine Exports

Sprint Exports Pvt. Ltd.

Sri Sakkthi Cold Storage

Sri Venkata Padmavathi Marine Foods Pvt. Ltd.

Srikanth International

Star Agro Marine Exports Private Limited

Star Organic Foods Incorporated

Star Organic Foods Private Limited

Sterling Foods

Sun Agro Exim

Sun-Bio Technology Ltd.

Sunrise Aqua Food Exports

Supran Exim Private Limited

Suryamitra Exim Pvt. Ltd.

Suvarna Rekha Exports Private Limited

Suvarna Rekha Marines P Ltd.

TBR Exports Pvt. Ltd.

Teekay Marine P. Ltd.

The Waterbase Limited

Triveni Fisheries P Ltd.

U & Company Marine Exports

Ulka Sea Foods Private Limited

Uniroyal Marine Exports Ltd.

Unitriveni Overseas

V V Marine Products

V.S. Exim Pvt. Ltd.

Vasai Frozen Food Co.

Vasista Marine

Veejay Impex

Veerabhadra Exports Private Limited

Veronica Marine Exports Private Limited

Victoria Marine & Agro Exports Ltd.

Vinner Marine

Vitality Aquaculture Pvt., Ltd.

Wellcome Fisheries Limited

West Coast Fine Foods (India) Private Limited

West Coast Frozen Foods Private Limited

Z A Sea Foods Pvt. Ltd.

[FR Doc. 2019-05425 Filed 3-21-19; 8:45 am]

BILLING CODE 3510-DS-P